DEPARTMENT OF HEALTH AND HUMAN SERVICES

Centers for Disease Control and Prevention

National Healthy Worksite Program; Information Webinar Series

AGENCY: Centers for Disease Control and Prevention (CDC), Department of Health and Human Services (HHS).

ACTION: Notice of meeting.

SUMMARY: The Centers for Disease Control and Prevention (CDC) located within the Department of Health and Human Services (HHS) announces a series of Webinars to provide information for individuals and groups interested in learning more about the National Healthy Worksite Program. The National Healthy Worksite Program is an HHS/CDC initiative to establish and evaluate comprehensive workplace health programs to improve the health of workers and their families. Registration for the Webinars is free.

DATES: Webinars will be held on the following dates and times: December 20, 2011, 2:00-3 p.m. EST; January 13, 2012, 12:00-1 p.m. EST; January 20, 2012 12:00-1 p.m. EST; January 20, 2012 3:00-4 p.m. EST. Registration information is provided in SUPPLEMENTARY INFORMATION.

FOR FURTHER INFORMATION CONTACT: Inquiries and requests for information should be sent to NationalHealthyWork@cdc.gov. Additional information, announcements, and frequently asked questions will be posted at http://www.cdc.gov/NationalHealthyWorksite. Calls should be directed to Jason Lang, National Center for Chronic Disease Prevention and Health Promotion, Centers for Disease Control and Prevention, at (770) 488-5269.

SUPPLEMENTARY INFORMATION:

Background

The National Healthy Worksite Program is an HHS/CDC initiative to establish and evaluate comprehensive workplace health programs to improve the health of workers and their families. HHS/CDC plans to recruit groups of up to 15 employers within seven locations across the U.S. and lead them through the process of building a workplace health program including the following components: Assessment of employer and employee needs, interests, health risks, and existing capacity; a planning process resulting in a workplace health improvement plan to guide the worksite through program development; implementation of programs, policies, and practices to address employee lifestyle risk factors related to physical activity, nutrition, and tobacco use; building a program infrastructure within each worksite for long-term sustainability including evaluation, wellness committees, program champions, and leadership (CEO/senior executive) support; and participation in programmatic activities, training, and technical assistance. The National Healthy Worksite Program will include science-based initiatives to build worksite capacity and improve workplace culture to support healthy behaviors. Examples of such strategies include health and lifestyle education and coaching, establishing tobacco-free campus policies, promoting work schedules that allow employees to be more physically active, and offering more healthy food choices in worksite cafeterias and vending machines. A core principle of the initiative is to maximize employee engagement in the design and implementation of the programs so they have the greatest chances of success. The program will not issue grants or financial assistance directly to employers.

Based on employee needs, companies will establish a core set of 3 to 5 science-based interventions from an available menu of options that include a mix of strategies that target physical activity, nutrition, and tobacco use in the employee population. Examples include:

1. Tobacco-free campus policy, subsidized quit-smoking counseling.

2. Worksite farmer's market, nutrition counseling/education, menu labeling on healthy foods, healthy foods in cafeterias and vending, weight management counseling.

3. Stairwell enhancement, physical fitness/lifestyle counseling, walking trails/clubs, flextime policy.

For the National Healthy Worksite Program, the United States has been divided into seven regions. Regions are defined as follows:

• Region 1: Connecticut, Delaware, District of Columbia, Maine, Maryland, Massachusetts, New Hampshire, New Jersey, New York, Pennsylvania, Rhode Island, Vermont, Virginia, and West Virginia;

• Region 2: Alabama, Florida, Georgia, Kentucky, Mississippi, North Carolina, South Carolina, and Tennessee;

• Region 3: Illinois, Indiana, Michigan, Minnesota, Ohio, and Wisconsin;

• Region 4: Arkansas, Louisiana, New Mexico, Oklahoma, and Texas;

• Region 5: Colorado, Iowa, Kansas, Missouri, Montana, Nebraska, North Dakota, South Dakota, Utah, and Wyoming;

• Region 6: Arizona, California, Hawaii, and Nevada; and

• Region 7: Alaska, Idaho, Oregon, and Washington.

Each of the seven regions will have one group of up to 15 employers that are located within a small, defined geographic area (i.e., city, county) with high prevalence of chronic disease and sufficient community resources available to maintain a sustainable workplace health program when the National Healthy Worksite Program ends. Each of the seven groups of employers will consist of a mix of employers (small—100 or less full-time employees; medium—101-250 employees; and large—251-1000 employees). Outreach to interested employers in the seven locations will occur shortly after these Webinars. Interested employers will be directed to a program Web site (http://www.cdc.gov/NationalHealthyWorksite) and/or program email address (NationalHealthyWork@cdc.gov) to be certified as an eligible employer. The certification process will open January 20, 2012 and close February 3, 2012.

In addition, multiple methods will be used to develop a marketing campaign to reach employers including advertising in trade publications, direct mail/email, utilizing the Web site, producing a recruitment video and using social media. All participants must complete their submission through the program Web site or program mailbox during the open certification period. Other submissions will not be considered. Final selection of participating employers will be made on or about April 30, 2012.

Registration: Early registration for each Webinar is encouraged, as space is limited to 1,000 participants. Participants should register online by using the links provided below.

• December 20, 2011 2 p.m.-3 p.m. EST. Webinar registration site: https://www3.gotomeeting.com/register/703198246;

• January 13, 2012 12 p.m.-1 p.m. EST. Webinar registration site: https://www3.gotomeeting.com/register/807742630;

• January 20, 2012, 12 p.m.-1 p.m. EST. Webinar registration site: https://www3.gotomeeting.com/register/133770238; and

• January 20, 2012, 3 p.m.-4 p.m. EST. Webinar registration site: https://www3.gotomeeting.com/register/367222398.

Purpose of Each Webinar

The December 20, 2011 Webinar will provide a general overview of the National Healthy Worksite Program including program goals and objectives, program components and employer activities, timelines, and anticipated program outcomes.

The January 2012 Webinars will (1) Provide a general overview of the National Healthy Worksite Program; (2) review the process and criteria HHS/CDC used to identify the seven locations where the program will take place; (3) announce those locations; and (4) discuss the employer certification process and criteria HHS/CDC will use to identify and select up to 100 employers participating in the National Healthy Worksite Program.

HHS/CDC plans to publish notices in the Federal Register announcing (1) The seven locations where the program will take place and the criteria used for selection; and (2) the employer certification process and criteria HHS/CDC will use to identify and select up to 100 participating employers across the seven selected locations.

Special Accommodations

HHS/CDC will make every effort to accommodate persons with disabilities or special needs. HHS/CDC will make slides and an audio and written transcript of the Webinars available on its Web site, http://www.cdc.gov/NationalHealthyWorksite. If you require additional special accommodations due to a disability, please contact Jason Lang, National Center for Chronic Disease Prevention and Health Promotion, at (770) 488-5269 at least 7 days in advance of the meeting.

Dated: November 21, 2011.
James W. Stephens,
Director, Office of Science Quality, Office of the Associate Director for Science, Center for Disease Control and Prevention.

[FR Doc. 2011-30649 Filed 11-28-11; 8:45 am]

BILLING CODE 4163-18-P